DEPARTMENT OF ENERGY

Federal Energy Regulatory Commission

[Docket No. CP02-420-000]

Red Lake Gas Storage, L.P.; Notice of Public Comment Meeting and Site Visit for the Proposed Red Lake Gas Storage Project and Request for Comments on Environmental Issues

October 16, 2002.

The staff of the Federal Energy Regulatory Commission (Commission) is issuing this notice to announce the date and location of a public scoping meeting on the proposed Red Lake Gas Storage Project. The Commission staff will be preparing an environmental assessment (EA) for Red Lake Gas Storage, L.P.”s project in Mohave County, Arizona. The planned facilities would consist of two solution-mined underground salt caverns, about 52 miles of various diameter pipeline, a 25,000-horsepower (hp) compressor station, a 9,000-hp compressor station, four water withdrawal wells, four brine disposal wells, and appurtenant facilities. The EA will be used by the Commission in its decision-making process to determine whether the project is in the public convenience and necessity. You are invited to attend the public meeting to enter into the Commission's record any comments you might have. Comments received at the scoping meeting will help us to determine the issues to be evaluated in the EA. The date, time, and location are shown below:

Date and Time: November 14, 2002, 7 to 10 pm.

Location Phone: Mohave Community College, Kingman Campus, Room Number 111, 1971 Jagerson Avenue, Kingman, AZ 86401.

Phone: (928) 757-4331.

For additional information, please contact Mr. Thomas Russo of the Commission's Office of External Affairs at (202) 502-8004.

Linwood A. Watson, Jr.,
Deputy Secretary.

[FR Doc. 02-26935 Filed 10-22-02; 8:45 am]

BILLING CODE 6717-01-P